DEPARTMENT OF TRANSPORTATION

Federal Aviation Administration

14 CFR Part 39

[Docket No. 2002-CE-25-AD]

RIN 2120-AA64

Airworthiness Directives; British Aerospace Jetstream Model 3201 Airplanes

AGENCY: Federal Aviation Administration, DOT.

ACTION: Notice of proposed rulemaking (NPRM).

SUMMARY: This document proposes to supersede Airworthiness Directive (AD) 2000-09-13, which currently requires you to inspect the fuel quantity indication system for damage to the insulation of the wiring within the fuel tanks on British Aerospace Jetstream Model 3201 airplanes and requires you to repair or replace damaged wiring. This proposed AD would retain the actions of AD 2000-09-13 and require you to replace the fuel quantity indication system wiring harness with improved design parts, inspect the fuel boost pump area for damage, and replace any damaged component. This proposed AD is the result of mandatory continuing airworthiness information (MCAI) issued by the airworthiness authority for the United Kingdom. The actions specified by this proposed AD are intended to detect, correct, and prevent damage to the insulation of the wiring within the fuel tanks of the fuel quantity indication system. If not detected, corrected, and prevented, such damaged wiring could result in damage to the fuel boost pump and a malfunction in the cockpit indicators and/or electrical sparking inside the fuel tank with consequent fire or explosion.

DATES: The Federal Aviation Administration (FAA) must receive any comments on this proposed rule on or before September 17, 2002.

ADDRESSES: Submit comments to FAA, Central Region, Office of the Regional Counsel, Attention: Rules Docket No. 2002-CE-25-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-25-AD” in the subject line. If you send comments electronically as attached electronic files, the files must be formatted in Microsoft Word 97 for Windows or ASCII text.

You may get service information that applies to this proposed AD from British Aerospace Regional Aircraft, Prestwick International Airport, Ayrshire, KA9 2RW, Scotland; telephone: (01292) 672345; facsimile: (01292) 671625. You may also view this information at the Rules Docket at the address above.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-25-AD.” We will date stamp and mail the postcard back to you.

Discussion

Has FAA Taken Any Action to This Point?

Reports of damage to the insulation of the wiring within the wing fuel tanks of the fuel quantity indication system on two British Aerospace Jetstream Model 3201 airplanes caused us to issue AD 2000-09-13, Amendment 39-11722 (65 FR 30863, May 15, 2000). This AD requires you to accomplish the following on all British Aerospace Jetstream Model 3201 airplanes:

—inspect the fuel quantity indication system for damage to the insulation of the wiring within the fuel tanks; and

—repair or replace damaged wiring.

These actions must be accomplished in accordance with British Aerospace Jetstream Alert Service Bulletin 28-A-JA990841, Original Issue: September 8, 1999; or British Aerospace Jetstream Alert Service Bulletin 28-A-JA990841, Original Issue: September 8, 1999; Revision No. 1: November 12, 1999.

What Events Have Caused This Proposed AD?

The Civil Aviation Authority (CAA), which is the airworthiness authority for the United Kingdom, recently notified FAA that an unsafe condition may continue to exist in the fuel quantity insulation wiring area on all British Aerospace Jetstream Model 3201 airplanes. The CAA reports that the existing fuel quantity indication system wiring harness is composed of “equipment grade” wiring instead of “aircraft grade” wiring. This “equipment grade” wiring has a thinner insulation wall and will eventually deteriorate regardless of whether repaired as required by AD 2000-09-13.

In addition, the current wiring configuration can rub on the components in the fuel boost pump area and cause consequent damage.

What Are The Consequences if the Condition Is Not Corrected?

If not detected, corrected, and prevented, damage to the insulation of the wiring within the fuel tanks of the fuel quantity indication system could result in the following:

—damage to the fuel boost pump;

—a malfunction in the cockpit indicators and/or electrical sparking inside the fuel tank; and

—a consequent fire or explosion.

Is There Service Information That Applies to This Subject?

British Aerospace has issued Jetstream Service Bulletin 28-JM8226, Original Issue: March 11, 2002.

What Are the Provisions of This Service Information?

The service bulletin includes procedures for:

—inspecting the fuel boost pump area for damage and replacing any damaged component;

—replacing the fuel quantity indication system wiring harness with improved design parts; and

—rerouting the wiring harness installation.

What Action Did the CAA Take?

The CAA classified this service bulletin as mandatory and issued CAA AD 001-03-2002 in order to ensure the continued airworthiness of these airplanes in the United Kingdom.

Was This in Accordance With the Bilateral Airworthiness Agreement?

This airplane model is manufactured in the United Kingdom and is type certificated for operation in the United States under the provisions of section 21.29 of the Federal Aviation Regulations (14 CFR 21.29) and the applicable bilateral airworthiness agreement.

Pursuant to this bilateral airworthiness agreement, the CAA has kept FAA informed of the situation described above.

The FAA's Determination and an Explanation of the Provisions of This Proposed AD

What Has FAA Decided?

The FAA has examined the findings of the CAA; reviewed all available information, including the service information referenced above; and determined that:

—the unsafe condition referenced in this document exists or could develop on other British Aerospace Jetstream Model 3201 airplanes of the same type design that are on the U.S. registry;

—the actions specified in the previously-referenced service information should be accomplished on the affected airplanes; and

—AD action should be taken in order to correct this unsafe condition.

What Would This Proposed AD Require?

This proposed AD would supersede AD 2000-09-13 and would:

—retain the actions of AD 2000-09-13;

—require you to inspect the fuel boost pump area for damage and replace any damaged component; and

—require you to replace the fuel quantity indication system wiring harness with improved design parts and reroute the wiring harness installation.

Cost Impact

How Many Airplanes Would This Proposed AD Impact?

We estimate that this proposed AD affects 200 airplanes in the U.S. registry.

What Would Be the Cost Impact of This Proposed AD On Owners/Operators of the Affected Airplanes?

We estimate the following costs to accomplish the proposed inspection and replacement:

Labor cost | Parts cost | Total cost per airplane | Total cost on U.S. operators
130 workhours × $60=$7,800 | $1,200 per airplane | $9,000 | $9,000 × 200 = $1,800,000.

The FAA has no method of determining the number of repairs each owner/operator would incur based on the results of the proposed inspections. We have no way of determining the number of airplanes that may need such repair. The extent of damage would vary on each airplane.

Compliance Time of this Proposed AD

Why Are Certain Compliance Times Presented in Calendar Time Instead of Hours Time-in-Service (TIS)?

Certain compliance times in this proposed AD are presented in calendar time instead of hours TIS because the unsafe condition specified by this proposed AD is caused by wire insulation deterioration and wear. While this is a direct result of airplane operation, it is not necessarily due to the number of times or hours the airplane is used. The current fuel quantity wiring configuration allows for the potential for rubbing. This rubbing on the “equipment grade” wiring could lead to damaged wiring more quickly than “aircraft grade” wiring, and frays and nicks could lead to wiring deterioration regardless of whether the airplane is operated.

Therefore, to ensure that the unsafe condition specified in this proposed AD does not go undetected for a long period of time, the compliance is presented in calendar time instead of hours TIS. This will also allow the owners/operators to work the proposed actions into regularly scheduled maintenance.

The proposed AD, if followed with a final rule, would require both the installation of “aircraft grade” wiring and a rerouting of the wiring to prevent future rubbing.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2000-09-13, Amendment 39-11722 (65 FR 30863, May 15, 2000) and adding a new AD to read as follows:

BRITISH AEROSPACE: Docket No. 2002-CE-25-AD. Supersedes AD 2000-09-13, Amendment 39-11722.

(a) What airplanes are affected by this AD? This AD affects Jetstream Model 3201 airplanes, all serial numbers, that are certificated in any category.

(b) Who must comply with this AD? Anyone who wishes to operate any of the airplanes identified in paragraph (a) of this AD must comply with this AD.

(c) What problem does this AD address? The actions specified by this AD are intended to detect, correct, and prevent damage to the insulation of the wiring within the fuel tanks of the fuel quantity indication system. If not detected, corrected, and prevented, such damaged wiring could result in damage to the fuel boost pump and a malfunction in the cockpit indicators and/or electrical sparking inside the fuel tank with consequent fire or explosion.

(d) What actions must I accomplish to address this problem? To address this problem, you must accomplish the following:

Actions | Compliance | Procedures
(1) Inspect the fuel quantity indication system for damage to the insulation of the wiring within the fuel tanks. Damage is defined as corrosion (indicated by a dark stain), cuts, or nicks | At whichever of the following occurs first, unless already accomplished: within the next 200 hours time-in-service (TIS) after June 23, 2000 (the effective date AD 2000-09-13); or on or before August 21, 2000 (60 days after the effective date of AD 2000-09-13) | In accordance with either British Aerospace Jetstream Alert Service Bulletin 28-A-JA990841, Original Issue: September 8, 1999; or British Aerospace Jetstream Alert Service Bulletin 28-A-JA990841, Original Issue: September 8, 1999, Revision No. 1: November 12, 1999.
(2) Replace or repair any damaged wiring | Prior to further flight after the inspection required by paragraph (d)(1) of this AD | In accordance with either British Aerospace Jetstream Alert Service Bulletin 28-A-JA990841, Original Issue: September 8, 1999; or British Aerospace Jetstream Alert Service Bulletin 28-A-JA990841, Original Issue: September 8, 1999, Revision No. 1: November 12, 1999.
(3) Inspect the fuel boost pump area for damage and replace any damaged component | Inspect within the next 12 months after the effective date of this AD, unless already accomplished Replace any damaged component prior to further flight after the inspection | In accordance with British Aerospace Jetstream Service Bulletin 28-JM8226, Original Issue: March 11, 2002.
(4) Replace the fuel quantity indication system wiring harness with improved design parts and reroute the wiring harness installation This replacement incorporates Jetstream Modification JM8226 | Within the next 12 months after the effective date of this AD, unless already accomplished | In accordance with British Aerospace Jetstream Service Bulletin 28-JM8226, Original Issue: March 11, 2002.
(5) Only install a fuel quantity indication system wiring harness that incorporates Jetstream Modification JM8226 (or FAA-approved equivalent parts) | As of the effective date of this AD | Not applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from British Aerospace Regional Aircraft, Prestwick International Airport, Ayrshire, KA9 2RW, Scotland; telephone: (01292) 672345; facsimile: (01292) 671625. You may view these documents at FAA, Central Region, Office of the Regional Counsel, 901 Locust, Room 506, Kansas City, Missouri 64106.

(i) Does this AD action affect any existing AD actions? This amendment supersedes AD 2000-09-13, Amendment 39-11722.

Note 2: The subject of this AD is addressed in CAA AD 001-03-2002, as specified in British Aerospace Jetstream Service Bulletin 28-JM8226, Original Issue: March 11, 2002.

Issued in Kansas City, Missouri, on August 2, 2002.
Dorenda D. Baker,
Acting Manager, Small Airplane Directorate, Aircraft Certification Service.

[FR Doc. 02-20137 Filed 8-8-02; 8:45 am]

BILLING CODE 4910-13-P